ENVIRONMENTAL PROTECTION AGENCY

[ER-FRL-8591-6]

Absaloka Coal Mine Expansion, Notice of Availability of the Record of Decision (ROD), National Pollutant Discharge Elimination System (NPDES) permit

AGENCY: U.S. Environmental Protection Agency (EPA).

ACTION: Notice of Availability of the Record of Decision to issue an NPDES permit for the South Extension of the Absaloka Coal Mine.

SUMMARY: The Absaloka surface coal mine is located in southeastern Montana, and will be expanding onto the Crow Indian Reservation. The NPDES permit will be for surface water discharges associated with the operation of the South Extension of the Absaloka Coal Mine. To support its NPDES decision, EPA has adopted the Environmental Impact Statement No. 20080406, BIA, MT, “Absaloka Mine Crow Reservation South Extension Coal Lease Approval, Proposed Mine Development Plan, and Related Federal and State Permitting Actions, Crow Indian Reservation.” The ROD and adopted FEIS are available for review at http://www.epa.gov/region8/water/npdes. The appeal period for the NPDES permit decision ends April 27, 2009.

FOR FURTHER INFORMATION CONTACT: Mr. Greg Davis; davis.gregory@epa.gov; U.S. Environmental Protection Agency, Region 8, (8P-W-WW); 1595 Wynkoop St.; Denver, Colorado, 80202-1129; or 303-312-6314.

Dated: March 24, 2009.
Susan E. Bromm,
Director, Office of Federal Activities.

[FR Doc. E9-6889 Filed 3-26-09; 8:45 am]

BILLING CODE